DEPARTMENT OF AGRICULTURE

Forest Service

Catron County Resource Advisory Committee

AGENCY: Forest Service, USDA.

ACTION: Notice of meeting.

SUMMARY: The Catron County Resource Advisory Committee will meet in Reserve, New Mexico, on May 1, 2003, from 10 a.m. MDST to 4 p.m. MDST. The purpose of the meeting is to review potential projects and adopt operating guidelines including the next meeting date.

DATES: The meeting will be held May 1, 2003.

ADDRESSES: The meeting will be held at the Catron County Courtroom of the Catron County Court House, 101 Main Street, Reserve, New Mexico 87830. A period of time will be allocated in the morning and afternoon for the committee to hear public comment.

FOR FURTHER INFORMATION CONTACT: Michael Gardner, Rural Community Assistant Staff, Gila National Forest, (505) 388-8212.

SUPPLEMENTARY INFORMATION: The meeting is open to the public. Committee discussion is limited to Forest Service staff and Committee members. However, persons who wish to bring Pub. L. 106-393 related matters to the attention of the Committee will have the opportunity at this meeting. Public input sessions will be provided on the agenda.

Dated: April 10, 2003.
Marcia R. Andre,
Forest Supervisor, Gila National Forest.

[FR Doc. 03-9299 Filed 4-15-03; 8:45 am]

BILLING CODE 3410-11-M